DEPARTMENT OF HOMELAND SECURITY

Coast Guard

33 CFR Part 117

[Docket No. USCG-2012-0864]

Drawbridge Operation Regulations; James River, Newport News, VA

AGENCY: Coast Guard, DHS.

ACTION: Notice of temporary deviation from regulations.

SUMMARY: The Coast Guard has issued a temporary deviation from the operating schedule that governs the US 17/258 Bridge across the James River, mile 5.0, at Newport News, VA. The deviation is necessary to facilitate the structural repairs of the bridge. This deviation allows the bridge to remain closed on weekends during the repairs and requires two-hour advanced notice for bridge openings.

DATES: This deviation is effective from 9 p.m. on September 14, 2012 until 5 a.m. on December 10, 2012.

ADDRESSES: Documents mentioned in this preamble as being available in the docket are part of docket USCG-2012-0864 and are available online by going to http://www.regulations.gov, inserting USCG-2012-0864 in the “Keyword” box, and then clicking “Search”. They are also available for inspection or copying at the Docket Management Facility (M-30), U.S. Department of Transportation, West Building Ground Floor, Room W12-140, 1200 New Jersey Avenue SE., Washington, DC 20590, between 9 a.m. and 5 p.m., Monday through Friday, except Federal Holidays.

FOR FURTHER INFORMATION CONTACT: If you have questions on this rule, call or email Mr. Bill H. Brazier, Bridge Management Specialist, Fifth Coast Guard District, telephone (757) 398-6422, email Bill.H.Brazier@uscg.mil. If you have questions on reviewing the docket, call Renne V. Wright, Program Manager, Docket Operations, telephone (202) 366-9826.

SUPPLEMENTARY INFORMATION: Curtis Contracting, Inc., on behalf of the Virginia Department of Transportation who owns and operates this vertical-lift type drawbridge, has requested a temporary deviation from the current operating regulations to facilitate grid deck replacement on the structure.

Under the regular operating schedule, the US 17/258 Bridge over the James River, mile 5.0, at Newport News, VA opens on signal as required by 33 CFR 117.5 and has vertical clearances in the full open and closed positions of 145 feet and 60 feet above mean high water, respectively.

Under this temporary deviation, the drawbridge will be closed to navigation on weekends only beginning Fridays, at 9 p.m. through 5 a.m., on Mondays, from September 14, 2012 through December 10, 2012 and vessel openings will be provided with a two-hour advance notice to the bridge tender. During the temporary deviation period, the drawbridge will be unable to open in the event of an emergency. Vessels that can pass under the bridge without a bridge opening may do so at all times. There are no alternate routes for vessels transiting this section of the James River.

The James River caters to a variety of vessels from freighters to tug and barge traffic to recreational vessels. The Coast Guard has carefully coordinated the restrictions with commercial and recreational waterway users. Additionally, the Coast Guard will inform unexpected users of the waterway through our Local and Broadcast Notice to Mariners of the closure periods for the bridge so that vessels can arrange their transits to minimize any impacts caused by the temporary deviation.

In accordance with 33 CFR 117.35(e), the draw must return to its original operating schedule immediately at the end of the designated time period. This deviation from the operating regulations is authorized under 33 CFR 117.35.

Dated: September 11, 2012.
Waverly W. Gregory, Jr.,
Bridge Program Manager, Fifth Coast Guard District.

[FR Doc. 2012-23436 Filed 9-21-12; 8:45 am]

BILLING CODE 9110-04-P